DEPARTMENT OF HEALTH AND HUMAN SERVICES

Food and Drug Administration

[Docket Nos. FDA-2021-N-1222; FDA-2015-N-3662; FDA-2013-N-1425; FDA-2008-D-0530; FDA-2019-N-0482; FDA-2021-N-1192; FDA-2018-N-4042; FDA-2015-N-3815; FDA-2019-N-0721; and FDA-2013-N-0013]

Agency Information Collection Activities; Announcement of Office of Management and Budget Approvals

AGENCY: Food and Drug Administration, HHS.

ACTION: Notice.

SUMMARY: The Food and Drug Administration (FDA) is publishing a list of information collections that have been approved by the Office of Management and Budget (OMB) under the Paperwork Reduction Act of 1995.

FOR FURTHER INFORMATION CONTACT: JonnaLynn Capezzuto, Office of Operations, Food and Drug Administration, Three White Flint North, 10A-12M, 11601 Landsdown St., North Bethesda, MD 20852, 301-796-3794, PRAStaff@fda.hhs.gov.

SUPPLEMENTARY INFORMATION: The following is a list of FDA information collections recently approved by OMB under section 3507 of the Paperwork Reduction Act of 1995 (44 U.S.C. 3507). The OMB control number and expiration date of OMB approval for each information collection are shown in table 1. Copies of the supporting statements for the information collections are available on the internet at https://www.reginfo.gov/public/do/PRAMain. An Agency may not conduct or sponsor, and a person is not required to respond to, a collection of information unless it displays a currently valid OMB control number.

Table 1—List of Information Collections Approved by OMB
Title of collection | OMB control No. | Date approval expires
Food Labeling: Notification Procedures for Statements on Dietary Supplements | 0910-0331 | 7/31/2025
Guidance for Reagents for Detection of Specific Novel Influenza A Viruses | 0910-0584 | 7/31/2025
Mitigation Strategies to Protect Food Against Intentional Adulteration | 0910-0812 | 7/31/2025
Tropical Disease Priority Review Vouchers | 0910-0822 | 7/31/2025
Reporting Associated with New Animal Drug Applications and Veterinary Master Files | 0910-0032 | 8/31/2025
Substances Generally Recognized as Safe: Notification Procedure | 0910-0342 | 8/31/2025
Establishing and Maintaining Lists of U.S. Product Manufacturers/Processors With Interest in Exporting CFSAN-Regulated Products | 0910-0509 | 8/31/2025
Electronic Submission of Medical Device Registration and Listing | 0910-0625 | 8/31/2025
Accreditation of Third Party Certification Bodies to Conduct Food Safety Audits and Issue Certifications | 0910-0750 | 8/31/2025
Sanitary Transportation of Human and Animal Food | 0910-0773 | 8/31/2025

Dated: August 16, 2022.
Lauren K. Roth,
Associate Commissioner for Policy.

[FR Doc. 2022-18062 Filed 8-19-22; 8:45 am]

BILLING CODE 4164-01-P